DEPARTMENT OF HOMELAND SECURITY

Federal Emergency Management Agency

[Docket ID: FEMA-2021-0016; OMB No. 1660-0086]

Agency Information Collection Activities: Proposed Collection; Comment Request; National Flood Insurance Program—Mortgage Portfolio Protection Program (MPPP); Ask the Advocate Web Form

AGENCY: Federal Emergency Management Agency, Department of Homeland Security.

ACTION: 60-Day notice of revision and request for comments.

SUMMARY: The Federal Emergency Management Agency (FEMA), as part of its continuing effort to reduce paperwork and respondent burden, invites the general public to take this opportunity to comment on a revision of a previously approved information collection. In accordance with the Paperwork Reduction Act of 1995, this notice seeks comments concerning an amendment to a currently-approved collection of information related to the National Flood Insurance Program (NFIP), Mortgage Portfolio Protection Program (MPPP), which is an option that companies participating in the NFIP can use to bring their mortgage loan portfolios into compliance with the flood insurance purchase requirements. This notice seeks comments concerning the collection of information related to the Office of the Flood Insurance Advocate (OFIA).

DATES: Comments must be submitted on or before July 26, 2021.

ADDRESSES: To avoid duplicate submissions to the docket, please submit comments at www.regulations.gov under Docket ID FEMA-2021-0016. Follow the instructions for submitting comments.

All submissions received must include the agency name and Docket ID. Regardless of the method used for submitting comments or material, all submissions will be posted, without change, to the Federal eRulemaking Portal at www.regulations.gov, and will include any personal information you provide. Therefore, submitting this information makes it public. You may wish to read the Privacy and Security Notice that is available via a link on the homepage of www.regulations.gov.

FOR FURTHER INFORMATION CONTACT: For information related to the NFIP Mortgage Portfolio Protection Program (MPPP), contact Kelly Bronowicz, Industry Management Branch Chief, FIMA, FEMA, 202-557-9488, Kelly.Bronowicz@fema.dhs.gov.

For information related to the Ask the Advocate web form, contact Joe Cecil, Advocate Representative Team Lead, Office of the Flood Insurance Advocate, FIMA, FEMA, 202-701-3465, Joseph.Cecil@fema.dhs.gov.

Requests for additional information or copies of the information collection should be made to the Forms & Information Collections Manager, Information Management Division, 500 C Street SW, Washington, DC 20472, email address FEMA-Information-Collections-Management@fema.dhs.gov.

SUPPLEMENTARY INFORMATION: Pertaining to the MPPP, federal lenders and Federally-regulated or sponsored lending institutions may not make, increase, extend, or renew any loan secured by improved real property located in a special flood hazard area (SFHA) unless the building and any personal property securing the loan is covered by flood insurance for the life of the loan. See Flood Disaster Protection Act of 1973 (FDPA) § 102 (Pub. L. 93-234; 42 U.S.C. 4012a). The FEMA Administrator carries out the NFIP to enable interested persons to purchase insurance against loss resulting from physical damage to or loss of real or personal property arising from flood in the United States. See National Flood Insurance Act of 1968 (NFIA) (Pub. L. 90-448, title XIII; 42 U.S.C. 4001 et seq.).

In general, individual mortgagees subject to the requirements of the FDPA obtain and maintain flood insurance for their individual properties. When individual mortgagees do not obtain required flood insurance, the NFIP's MPPP allows covered lenders to ensure compliance with the requirements of FDPA by making available special coverage for the lender's entire mortgage portfolio. See 44 CFR 62.23(l). To sell MPPP policies, private insurance companies participating in the NFIP's Write Your Own (WYO) Program must apply for and annually renew their election to voluntarily participate in the MPPP.

This information collection expires on December 31, 2021. FEMA is requesting a revision of this currently approved collection. The purpose of this notice is to notify the public that FEMA will submit the information collection abstracted below to the Office of Management and Budget for review and clearance.

Pertaining to the Ask the Advocate Web Form, Section 24 of the Homeowner Flood Insurance Affordability Act of 2014 (42 U.S.C. 4033), Public Law 113-89, 128 Stat. 1030, requires FEMA to designate a Flood Insurance Advocate that would advocate for the fair treatment of NFIP policyholders and property owners by: (1) Providing education and guidance on all aspects of the NFIP, (2) identifying trends affecting the public, and (3) making recommendations for NFIP program improvements to FEMA leadership. Pursuant to this authority, FEMA established OFIA on December 22, 2014.

Members of the public regularly contact OFIA seeking assistance on the NFIP. OFIA seeks to facilitate the timely and effective management of these inquiries by creating a web form on OFIA's web page at https://www.fema.gov/flood-insurance/advocate. The web form will allow users to provide information that includes all the data necessary for OFIA to perform its Congressionally mandated duties and responsibilities.

Consumers who submit an inquiry to OFIA will be required to fill-out ten (10) informational fields on the Ask the Advocate web form. These fields include: (1) First name, (2) Last name, (3) Email address, (4) Confirm email address, (5) How did you hear of Advocate's office (pull-down list), (6) Contact role (list field), (7) State (pull-down list), (8) ZIP code, (9) Subject (of inquiry) and (10) Questions/Comment (regarding inquiry). An eleventh (11th) field is a security CAPTCHA field intended to distinguish human from machine input as a way of thwarting spam and automated extraction of data from websites.

When a consumer submits this information, the data will be collected and stored on OFIA's Department of Homeland Security/FEMA-approved Customer Relationship Management cloud-based environment hosted by Salesforce.

Once OFIA receives this information, the inquiry will be assigned a system-generated “Case number”, and then the case is then assigned to an OFIA Advocate Representative (FEMA employee). Using the data collected from the Ask the Advocate web form, the Advocate Representative will research the customer's inquiry and offer education and guidance to help the customer navigate the NFIP process.

Collection of Information

Title: National Flood Insurance Program—Mortgage Portfolio Protection Program (MPPP).

Type of Information Collection: Revision of a currently approved information collection.

OMB Number: 1660-0086.

FEMA Forms: Ask the Advocate Web Form (form number pending OMB approval).

Abstract: Regarding the MPPP, FEMA needs the information to ensure that private insurance companies that join the NFIP's WYO Program meet all state and Federal requirements for insurance companies. Requirements include a good business record and satisfactory rating in their field. There is no other way to obtain this information because it is specific to each company that applies to join the NFIP.

Regarding the Ask the Advocate Web Form, the Homeowner Flood Insurance Affordability Act of 2014 requires FEMA to designate a Flood Insurance Advocate that would advocate for the fair treatment of NFIP policyholders and property owners. Pursuant to this authority, FEMA established OFIA on December 22, 2014.

Members of the public regularly contact OFIA seeking assistance on the NFIP. OFIA seeks to facilitate the timely and effective management of these inquiries through a web form on OFIA's web page. The web form will allow users to provide information that includes all the data necessary for OFIA to fulfill its duties and responsibilities.

Affected Public: Individuals, households, businesses, or other for-profit.

Estimated Number of Respondents: 1,041.

Estimated Number of Responses: 1,041.

Estimated Total Annual Burden Hours: 227.

Estimated Total Annual Respondent Cost: $11,856.

Estimated Respondents' Operation and Maintenance Costs: $0.00.

Estimated Respondents' Capital and Start-Up Costs: $0.00.

Estimated Total Annual Cost to the Federal Government: $71,930.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-11058 Filed 5-52-21; 8:45 am]

BILLING CODE 9111-23-P